COMMITTEE FOR PURCHASE FROM PEOPLE WHO ARE BLIND OR SEVERELY DISABLED

Procurement List: Additions and Deletions

AGENCY: Committee for Purchase From People Who Are Blind or Severely Disabled.

ACTION: Additions to and deletion from the Procurement List.

SUMMARY: This action adds to the Procurement List products and services to be furnished by nonprofit agencies employing persons who are blind or have other severe disabilities, and deletes from the Procurement List a product previously furnished by such agencies.

DATES: Effective Date: February 3, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On November 2, and November 9, 2007 the Committee for Purchase From People Who Are Blind or Severely Disabled published notice (72 FR 62207; 63555) of proposed additions to the Procurement List.

After consideration of the material presented to it concerning capability of qualified nonprofit agencies to provide the products and service and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Men's Charcoal Colored Cargo Pants HS2347 (All sizes)

Men's Grey Colored Short Sleeve Polo w/pocket 2101-GR (All sizes)

Men's Navy Colored Cargo Pants HS2347 (All sizes)

Men's Navy Colored Labcoat 380 (All sizes)

Men's Navy Colored Long Sleeve Twill 1790-NV (All sizes)

Men's Navy Colored Short Sleeve Polo w/pocket 2101-NV (All sizes)

Men's Navy Colored Side Elastic Pants E-2578 (All sizes)

Men's White Colored Long Sleeve Twill 1790-WT (All sizes)

Men's White Colored Short Sleeve Polo w/pocket 2101-WH (All sizes)

Men's Wine Colored Long Sleeve Twill 1790-WN (All sizes)

Men's Wine Colored Short Sleeve Polo w/pocket 2101-WN (All sizes)

Navy Colored 3-1 Parka w/reflective panels HS3334 (All sizes)

Unisex Grey Colored Hooded Sweatshirt 1805H (All sizes)

Unisex Grey Colored Sweatshirt 73157 (All sizes)

Unisex Hunter Green Colored Hooded Sweatshirt 1805H (All sizes)

Unisex Hunter Green Colored Sweatshirt 73157 (All sizes)

Unisex Long Sleeve Denim 3211DD (All sizes)

Unisex Navy Colored Hooded Sweatshirt 1805H (All sizes)

Unisex Navy Colored Long Sleeve Polo w/pocket 2108-NV (All sizes)

Unisex Navy Colored Sweatshirt 73157 (All sizes)

Unisex Wine Colored Long Sleeve Polo w/pocket 2108-WN (All sizes)

Women's Charcoal Colored Cargo Pants HS2351 (All sizes)

Women's Grey Colored Short Sleeve Polo w/o Pocket OB12-GR (All sizes)

Women's Navy Colored Cargo Pants HS2351 (All sizes)

Women's Navy Colored Labcoat 382 (All sizes)

Women's Navy Colored Long Sleeve Twill 5790-NV (All sizes)

Women's Navy Colored Short Sleeve Polo w/o Pocket OB12-NV (All sizes)

Women's Navy Colored Side Elastic Pants E-8578 (All sizes)

Women's White Colored Long Sleeve Twill 5790-WT (All sizes)

Women's White Colored Short Sleeve Polo w/o Pocket OB12-WH (All sizes)

Women's Wine Colored Long Sleeve Twill 5790-WN (All sizes)

Women's Wine Colored Short Sleeve Polo w/o Pocket OB12-WN (All sizes)

NPA: Human Technologies Corporation, Utica, NY.

Coverage: C-List for the total Government requirements for U.S. Department of Agriculture, Minneapolis, MN.

Contracting Activity: U.S. Department of Agriculture, Animal and Plant Health Inspection Service (APHIS), Marketing and Regulatory Programs Business Services (MRPBS), Minneapolis, MN.

Trousers, Men's Navy Work Uniforms (NWU) 03299 (All Sizes)

Trousers, Women's Navy Work Uniforms (NWU) 03299 (All Sizes)

Blouse, Men's Navy Work Uniforms (NWU) 03301 (All Sizes)

Blouse, Women's Navy Work Uniforms (NWU) 03301 (All Sizes)

Coverage: 100,000 sets in any combination of the above products. C-List for the requirements of the Defense Supply Center Philadelphia, Philadelphia, PA.

NPA: ReadyOne Industries, Inc., El Paso, TX.

Contracting Activity: Defense Supply Center Philadelphia, Philadelphia, PA.

Services

Service Type/Location: Document Destruction, Internal Revenue Service, 227 N. Bronough Street, Tallahassee, FL.

NPA: Challenge Enterprises of North Florida, Inc., Green Cove Springs, FL.

Contracting Activity: Department of the Treasury, Internal Revenue Services, Chamblee, GA.

Service Type/Location: Document Destruction, Southwest VA Consolidated Mail-Out Pharmacy (CMOP), 3675 E. Britania Dr., Tucson, AZ.

NPA: Beacon Group SW, Inc., Tucson, AZ.

Contracting Activity: Department of Veteran Affairs, Consolidated Mail-Out Pharmacy (CMOP), Tucson, AZ.

Deletion

On November 9, 2007 the Committee for Purchase From People Who Are Blind or Severely Disabled published notice (72 FR 63555) of proposed deletions to the Procurement List.

After consideration of the relevant matter presented, the Committee has determined that the product listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Shirt, Women's, Poly/Wool, Blue, Navy, Long Sleeve, Class 2, Tropical, w/o Epaulet

NSN: 8410-01-229-9439

NSN: 8410-01-229-9443

NSN: 8410-01-229-9447

NSN: 8410-01-229-9451

NSN: 8410-01-229-9455

NSN: 8410-01-229-9456

NSN: 8410-01-229-9459

NSN: 8410-01-229-9463

NSN: 8410-01-229-9467

NSN: 8410-01-229-9471

NSN: 8410-01-229-9475

NSN: 8410-01-229-9483

NSN: 8410-01-229-9487

NSN: 8410-01-229-9499

NSN: 8410-01-229-9500

NPA: Middle Georgia Diversified Industries, Inc., Dublin, GA.

Contracting Activity: Defense Supply Center Philadelphia, Philadelphia, PA.

Patrick Rowe,
Acting Executive Director.

[FR Doc. E7-25632 Filed 1-3-08; 8:45 am]

BILLING CODE 6353-01-P